FEDERAL ELECTION COMMISSION

Sunshine Act Meeting Notice

AGENCY: Federal Election Commission.

Date & Time: Monday, September 24, 2007, to be held at the Conclusion of the open meeting

Place: 999 E Street, NW., Washington, DC. This meeting will be closed to the public.

Items to be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Date & Time: Monday, September 24, 2007, at 10 a.m.

Place: 999 E Street, NW., Washington, DC (ninth floor)

Status: This meeting will be open to the public.

Items to be Discussed:

Correction and Approval of Minutes.

Draft Advisory Opinion 2007-13: United American Nurses, AFL-CIO, by counsel, Laurence Gold.

Draft Advisory Opinion 2007-14: Associated Builders and Contractors, the National Federation of Independence Business and the National Restaurant Association by counsel, Jan Witold Baran and Carol A. Laham.

Draft Advisory Opinion 2007-15: GMAC LLC, by, counsel, Jan Witold Baran and Caleb P. Burns.

Report of the Audit Division on Craig Romero for Congress, Inc.

Draft Final Rules on the Use of Campaign Funds for Donations to Non-Federal Candidates and Any Other Lawful Purpose Other Than Personal Use.

Management and Administrative Matters.

Person to contact for information: Mr. Robert Biersack, Press Officer, Telephone (202) 694-1220.

Mary W. Dove,
Secretary of the Commission.

[FR Doc. 07-4680 Filed 9-17-07; 3:19 pm]

BILLING CODE 6715-01-M